DEPARTMENT OF LABOR

Employment and Training Administration

Proposed Information Collection Request Submitted for Public Comment and Recommendations; Application for Alien Employment Certification

AGENCY: Employment and Training Administration, Labor.

ACTION: Notice.

SUMMARY: The Department of Labor (the Department), as part of its continuing effort to reduce paperwork and respondent burden, conducts a preclearance consultation program to provide the general public and Federal agencies with an opportunity to comment on proposed and/or continuing collections of information in accordance with the Paperwork Reduction Act of 1995 (PRA95), 44 U.S.C. 3506(c)(2)(A). This program helps to ensure that requested data can be provided in the desired format, reporting burden (time and financial resources) is minimized, collection instruments are clearly understood, and the impact of collection requirements on respondents can be properly assessed. Currently, the Employment and Training Administration is soliciting comments concerning the proposed extension to the collection of information on the Application for Alien Employment Certification. A copy of the proposed information collection request (ICR) can be obtained by contacting the office listed below in the addressee section of this notice.

DATES: Written comments must be submitted to the office listed in the addressee section below on or before September 8, 2003.

ADDRESSES: Comments and questions regarding the collection of information on Form ETA 750, parts A and B, Application for Alien Employment Certification, should be directed to William L. Carlson, Ph.D., Chief, Division of Foreign Labor Certifications, U.S. Department of Labor, 200 Constitution Avenue, NW., Room C-4318, Washington, DC 20210. Dr. Carlson may also be reached at (202) 693-3010; this is not a toll-free number.

SUPPLEMENTARY INFORMATION:

I. Background

Under section 212(a)(5)(A) of the Immigration and Nationality Act (INA)(8 U.S.C. 1182(a)(5)(A)), certain aliens may not obtain a visa for entrance into the United States in order to engage in permanent employment unless the Secretary of Labor has first certified to the Secretary of State and to the Attorney General that: (1) There are not sufficient U.S. workers who are able, willing, qualified and available at the time of application for a visa and admission into the U.S. and at the place where the alien is to perform the work; and (2) the employment of the alien will not adversely affect the wages and working conditions of U.S. workers similarly employed. Form ETA 750, parts A and B, is the application form submitted by employers that forms the basis for a determination as to whether the Secretary shall provide such a certification. Form ETA 750, part A, is also utilized to collect information that permits the Department to meet Federal responsibilities for administering two nonimmigrant programs: the H-2A and H-2B temporary labor certification programs. The H-2A temporary agricultural program establishes a means for agricultural employers who anticipate a shortage of domestic workers to bring nonimmigrant aliens to the U.S. to perform agricultural labor or services of a temporary or seasonal nature. The H-2B program establishes a means for employers to bring nonimmigrant aliens to the U.S. to perform nonagricultural work of a temporary or seasonal nature.

II. Focus of Review

The Department of Labor is particularly interested in comments which:

• Evaluate whether the proposed information collection is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated, electronic, mechanical, or other technological collections techniques or other forms of information, e.g., permitting electronic submissions of responses.

III. Current Actions

In order for the Department to meet its statutory responsibilities under the INA, there is a need for an extension of an existing collection of information pertaining to employers' seeking to hire foreign workers for permanent or temporary employment in the U.S. by filing an Application for Alien Employment Certification on their behalf. There is an increase in burden due to a significant and sustained increase in the number of applications filed by employers each year.

Type of Review: Extension of a currently approved collection.

Agency: Employment and Training Administration, Labor.

Title: Application for Alien Employment Certification.

OMB Number: 1205-0015.

Affected Public: Individuals or households; Businesses or other for-profit or not-for-profit institutions; Federal, State, Local, or Tribal governments; Farms.

Form: ETA 750, Parts A and B.

Total Respondents:

Permanent Program: 100,000.

H-2A Program: 4,200.

H-2B Program: 5,000.

Frequency of Response: On occasion.

Total Responses: 109,200.

Average Burden Hours Per Response:

Permanent Program: 2.8.

H-2A Program: 1.

H-2B Program: 1.4.

Estimate Total Annual Burden Hours: 291,200.

Comments submitted in response to this notice will be summarized and/or included in the request for Office of Management and Budget approval of the information collection request; they will also be become a matter of public record.

Signed at Washington, DC, this 2nd day of July, 2003.
Emily Stover DeRocco,
Assistant Secretary.

[FR Doc. 03-17325 Filed 7-8-03; 8:45 am]

BILLING CODE 4510-30-P